DEPARTMENT OF LABOR

Employment Standards Administration

Proposed Extension of the Approval of Information Collection Requirements

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning its proposal to extend OMB approval of the information collection for the following reports: Representative Payee Report (CM-623), Representative Payee Report, Short Form (CM-623S), and Physician's/Medical Officer's Statement (CM-787). A copy of the proposed information collection request can be obtained by contacting the office listed below in the addresses section of this Notice.

DATES: Written comments must be submitted to the office listed in the addresses section below on or before June 3, 2008.

ADDRESSES: Mr. Steve Andoseh, U.S. Department of Labor, 200 Constitution Ave., NW., Room S-3201, Washington, DC 20210, telephone (202) 693-0373, fax (202) 693-1451, e-mail andoseh.steven@dol.gov. Please use only one method of transmission for comments (mail, fax, or e-mail).

SUPPLEMENTARY INFORMATION:

I. Background: The Office of Workers' Compensation Programs (OWCP) administers the Federal Black Lung Workers' Compensation Program. Under the Federal Mine Safety and Health Act (30 U.S.C 901) benefits due to a black lung beneficiary may be paid to a representative payee on behalf of the beneficiary when the beneficiary is unable to manage his/her benefits due to incapability, incompetence, or minority. The CM-623, Representative Payee Report is used to collect expenditure data regarding the disbursement of the beneficiary's benefits by the representative payee to assure that the beneficiary's needs are being met. The CM-623S, Representative Payee—Short Form is a shortened version of the CM-623 that is used when the representative payee is a family member residing with the beneficiary. The CM-787, Physician's/Medical Officer's Statement is used to gather information from the beneficiary's physician about the capability of the beneficiary to manage monthly benefits. This form is used by OWCP to determine if it is in the beneficiary's best interest to have his/her benefits managed by another party. The regulatory authority for collecting this information is in 20 CFR 725.506, 510, 511, and 513. This information collection is currently approved for use through October 31, 2008.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: The Department of Labor seeks the approval for the extension of this currently approved information collection in order to carry out its responsibility to determine if a beneficiary is capable and/or competent to manage his/her black lung benefits, and to ensure that the representative payee is using the benefits to meet the beneficiary's needs.

Type of Review: Extension.

Agency: Employment Standards Administration.

Title: Representative Payee Report (CM-623), Representative Payee Report, Short Form (CM-623S), and Physician's/Medical Officer's Statement (CM-787).

OMB Number: 1215-0173.

Agency Number: CM-623, CM-623S, CM-787.

Affected Public: Individuals or Households, Business or other for-profit and Not-for-profit institutions.

Total Respondents: 2,100.

Total Annual responses: 2,100.

Average Time per Response: 46.9 minutes.

Burden Estimates
Form No. | Number of respondents | Number of responses | Avg. time per response (min.) | Burden hours
CM-623 | 900 | 900 | 90 | 1,350
CM-623S | 100 | 100 | 10 | 17
CM-787 | 1,100 | 1,100 | 15 | 275
Total | 2,100 | 2,100 | 46.9 | 1,642

Estimated Total Burden Hours: 1,642.

Frequency: On Occasion.

Total Burden Cost (capital/startup): $0.

Total Burden Cost (operating/maintenance): $0.

Comments submitted in response to this notice will be summarized and/or included in the request for Office of Management and Budget approval of the information collection request; they will also become a matter of public record.

Dated: March 27, 2008.
Hazel M. Bell,
Acting Chief, Branch of Management Review and Internal Control, Division of Financial Management, Office of Management, Administration and Planning, Employment Standards Administration.

[FR Doc. E8-6963 Filed 4-3-08; 8:45 am]

BILLING CODE 4510-CK-P